Proclamation 9738 of April 30, 2018

Loyalty Day, 2018

By the President of the United States of America

A Proclamation

On Loyalty Day, we reflect with humility and gratitude upon the freedoms we hold dear, and we reaffirm our allegiance to our Nation and its founding principles. We cherish our system of self-government, whereby each American citizen is free to exercise their God-given and inalienable rights to life, liberty, and the pursuit of happiness. We honor and defend our Constitution, which constrains the power of government and allows us freely to exercise these rights. We also recognize the great responsibility that accompanies a free people and vow to preserve our hard-won liberty. For we know, as President Ronald Reagan once said, that “freedom is never more than one generation away from extinction.”

This Loyalty Day, we remember and honor the thousands of Americans who have laid down their lives to protect and defend our Nation's beautiful flag, from those who battled on Bunker Hill to those who sailed at Midway. These brave men and women fought and died to ensure that the United States of America continues to shine as a beacon of hope and freedom around the world. America's light will continue to shine because our Government is built on the propositions that government derives its just power from the consent of the governed and that government exists for the purpose of protecting the individual rights of its citizens. This makes our Nation exceptional. Through devotion and sacrifice, each new generation has preserved these rights for posterity. It now falls to us to continue this legacy.

As we have since our Nation's founding, Americans today continue to strengthen the fabric of our Nation. The men and women of our Armed Forces courageously confront our enemies, who seek to do us harm and to destroy our way of life. Our first responders valiantly rush toward danger to save lives and aid those in need, often at great personal risk. Parents and teachers prepare our youth to defend our unique heritage and our rights. Our Nation's entrepreneurs and business owners are rewarded by how well they serve others—a remarkable feature of our free market system. The valued virtue of selfless service that permeates American life exemplifies our proud loyalty to our country and fellow citizens.

To express our country's loyalty to individual liberties, to limited government, and to the inherent dignity of every human being, the Congress, by Public Law 85-529, as amended, has designated May 1 of each year as “Loyalty Day.” On this day, we honor the United States of America and those who uphold its values, particularly those who have fought and continue to fight to defend the freedom our Constitution affords us.

NOW, THEREFORE, I, DONALD J. TRUMP, President of the United States of America, do hereby proclaim May 1, 2018, as Loyalty Day. I call on all Americans to observe this day with appropriate ceremonies in our schools and other public places, including recitation of the Pledge of Allegiance to the Flag of the United States of America. I also call upon all Government officials to display the flag of the United States on all Government buildings and grounds on that day.

IN WITNESS WHEREOF, I have hereunto set my hand this thirtieth day of April, in the year of our Lord two thousand eighteen, and of the Independence of the United States of America the two hundred and forty-second.

[FR Doc. 2018-09739

Filed 5-3-18; 11:15 am]

Billing code 3295-F8-P